DEPARTMENT OF TRANSPORTATION

Federal Aviation Administration

14 CFR Part 39

[Docket No. 2001-NM-151-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to certain BAE Systems (Operations) Limited (Jetstream) Model 4101 airplanes. This proposal would require a functional test of the shortening mechanism of the nose landing gear for free movement of the capsule in the upper and lower bearings, and corrective action, if necessary. This action is necessary to prevent damage to the capsule, which could result in inability to extend the nose landing gear in normal or emergency situations, and consequent injury to passengers and flight crew. This action is intended to address the identified unsafe condition.

DATES: Comments must be received by October 25, 2001.

ADDRESSES: Submit comments in triplicate to the Federal Aviation Administration (FAA), Transport Airplane Directorate, ANM-114, Attention: Rules Docket No. 2001-NM-151-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-151-AD” in the subject line and need not be submitted in triplicate. Comments sent via the Internet as attached electronic files must be formatted in Microsoft Word 97 for Windows or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-151-AD.” The postcard will be date stamped and returned to the commenter.

Availability of NPRMs

Any person may obtain a copy of this NPRM by submitting a request to the FAA, Transport Airplane Directorate, ANM-114, Attention: Rules Docket No. 2001-NM-151-AD, 1601 Lind Avenue, SW., Renton, Washington 98055-4056.

Discussion

The FAA has received reports that previously issued service information provided inadequate procedures for the installation of corrosion resistant replacement bearings in the nose landing gear on BAE Systems (Operations) Limited (Jetstream) Model 4101 airplanes. If the bearings are not installed correctly, they can restrict free movement of the capsule in the shortening mechanism of the nose landing gear. This condition, if not corrected, could result in damage to the capsule, inability to extend the nose landing gear in normal or emergency situations, and consequent injury to passengers and flight crew.

Explanation of Relevant Service Information

The manufacturer has issued BAE Systems (Operations) Limited (Jetstream) Service Bulletin J41-32-075, dated April 18, 2001, which references APPH Precision Hydraulics Service Bulletin AIR83586-32-16, dated February 2001, for accomplishment of an initial functional test of the shortening mechanism of the nose landing gear for free movement of the capsule in the upper and lower bearings; and rework of the nose landing gear if the capsule does not move freely.

The BAE Systems (Operations) Limited (Jetstream) service bulletin describes procedures for corrective actions for failure of the functional test specified above. The corrective actions include a full functional test of the extension/retraction system of the nose landing gear and repeating those tests at a certain interval if the landing gear extends/retracts correctly. If the landing gear does not extend/retract, the service bulletin specifies immediate replacement of the landing gear with new landing gear. The Civil Aviation Authority, which is the airworthiness authority for the United Kingdom, classified this service bulletin as mandatory.

Accomplishment of the actions specified in the service bulletins is intended to adequately address the identified unsafe condition.

U.S. Type Certification of the Airplane

This airplane model is manufactured in United Kingdom and is type certificated for operation in the United States under the provisions of section 21.29 of the Federal Aviation Regulations (14 CFR 21.29) and the applicable bilateral airworthiness agreement.

Explanation of Requirements of Proposed Rule

Since an unsafe condition has been identified that is likely to exist or develop on other airplanes of the same type design registered in the United States, the proposed AD would require accomplishment of the actions specified in the service bulletin described previously.

Cost Impact

The FAA estimates that 59 airplanes of U.S. registry would be affected by this proposed AD, that it would take approximately 2 work hours per airplane to accomplish the proposed functional test, and that the average labor rate is $60 per work hour. Based on these figures, the cost impact of the functional test proposed by this AD on U.S. operators is estimated to be $7,080, or $120 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2001-NM-151-AD.

Applicability: Model Jetstream 4101 airplanes, as listed in BAE Systems (Operations) Limited (Jetstream) Service Bulletin J41-32-075, dated April 18, 2001, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent damage to the capsule in the upper and lower bearings of the shortening mechanism of the nose landing gear, which could result in inability to extend the nose landing gear in normal or emergency situations, and consequent injury to passengers and flight crew, accomplish the following:

Functional Test/Corrective Action

(a) Within 300 flight hours or 60 days after the effective date of this AD, whichever comes first: Do a functional test of the shortening mechanism of the nose landing gear for free movement of the capsule in the upper and lower bearings, according to APPH Precision Hydraulics Service Bulletin AIR83586-32-16, dated February 2001. If the capsule does not move freely, before further flight, do the actions specified in paragraph (a)(1) or (a)(2) of this AD, as applicable. If the capsule moves freely no further action is required by this paragraph.

(1) Rework according to APPH Precision Hydraulics Service Bulletin AIR83586-32-16, dated February 2001.

(2) If the rework is not done, before further flight, do a full functional test of the extension/retraction system of the nose landing gear according to BAE Systems (Operations) Limited (Jetstream) Service Bulletin J41-32-075, dated April 18, 2001; and do the actions specified in paragraph (a)(1)(i) or (a)(2)(ii) of this AD, as applicable.

(i) If the nose landing gear extends and retracts correctly, repeat the full functional test every 50 flight hours according to the service bulletin. Within 300 flight hours after the initial test, do the requirements in paragraph (a)(1) of this AD, which ends the repetitive testing specified in this paragraph.

(ii) If the nose landing gear does not extend and retract correctly, before further flight, replace the nose landing gear with new landing gear according to the service bulletin.

Alternative Methods of Compliance

(b) An alternative method of compliance or adjustment of the compliance time that provides an acceptable level of safety may be used if approved by the Manager, International Branch, ANM-116, Transport Airplane Directorate, FAA. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Issued in Renton, Washington, on September 18, 2001.
Ali Bahrami,
Acting Manager, Transport Airplane Directorate, Aircraft Certification Service.

[FR Doc. 01-23828 Filed 9-24-01; 8:45 am]

BILLING CODE 4910-13-U